DEPARTMENT OF TRANSPORTATION

Federal Aviation Administration

14 CFR Part 71

[Docket No. FAA-2019-1023; Airspace Docket No. 19-ANM-94]

RIN 2120-AA66

Establishment of Class E Airspace; Port Angeles, WA; Port Angeles, WA

AGENCY: Federal Aviation Administration (FAA), DOT.

ACTION: Final rule.

SUMMARY: This action establishes a Class E surface area, Class E airspace as an extension to the surface area and Class E airspace extending upward from 700 feet above the surface at Port Angeles CGAS, Port Angeles, WA. Following a review of the airspace serving Port Angeles CGAS and William R Fairchild International Airport, the FAA found it necessary to provide Port Angeles CGAS with airspace independent of the airspace for William R Fairchild Airport. A microclimate at Port Angeles CGAS causes weather patterns to vary from the weather at William R Fairchild Airport. The difference in weather between the two locations can negatively impact operations at Port Angeles CGAS, impeding training and mission accomplishment. This action will establish new airspace for the safety and management of Instrument Flight Rules (IFR) operations at Port Angeles CGAS, Port Angeles, WA.

DATES: Effective 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA).

For information on the availability of FAA Order 7400.11D at NARA, email fedreg.legal@nara.gov or go to https://www.archives.gov/federal-register/cfr/ibr-locations.html.

FOR FURTHER INFORMATION CONTACT: Richard Roberts, Federal Aviation Administration, Western Service Center, Operations Support Group, 2200 S 216th Street, Des Moines, WA 98198; telephone (206) 231-2245.

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes new Class E surface airspace, Class E airspace as an extension to the Class E surface area and Class E airspace extending upward from 700 feet at Port Angeles CGAS, Port Angeles, WA, in support of IFR operations at the airport.

History

The FAA published a notice of proposed rulemaking in the Federal Register (85 FR 10626; February 25, 2020) for Docket No. FAA-2019-1023 to establish Class E airspace at Port Angeles CGAS, Port Angeles, WA, in support of IFR operations at the airport. Interested parties were invited to participate in this rulemaking effort by submitting written comments on the proposal to the FAA. No comments were received.

After publication of the NPRM, the FAA realized that it had inadvertently used AWP in the description headings instead of ANM. This is corrected in the final rule.

Class E airspace designations are published in paragraph 6002, 6004 and 6005 of FAA Order 7400.11D, dated August 8, 2019, and effective September 15, 2019, which is incorporated by reference in 14 CFR 71.1. The Class E airspace designation listed in this document will be published subsequently in the Order. FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by establishing a Class E surface area, Class E airspace as an extension to the surface area and Class E airspace extending upward from 700 feet above ground level at Port Angeles CGAS, Port Angeles, WA.

This action is being submitted coincidental with FAA proposal, Docket No. FAA-2019-1022; 19-ANM-81 to modify Class E airspace for William R Fairchild International Airport, Port Angeles, WA. That action will modify the airspace at William R Fairchild International Airport, Port Angeles, WA, to only that needed for their operations and remove the airspace that was previously used to support operations at Port Angeles CGAS. This action will provide the airspace needed for Port Angeles CGAS operations to facilitate training and mission accomplishment.

The Class E surface area will be established to within 1.5 miles of the airport. A Class E extension to the surface area will be established 2.1 miles both sides of the 80° bearing from the Port Angeles CGAS, extending from William R Fairchild surface area 4.1-mile radius to 5.6 miles east of the Port Angeles CGAS. This area will provide airspace for the Copter NDB 242 approach, as aircraft descend through 1000 feet AGL.

The Class E airspace extending upward from 700 feet AGL will be established to 3 miles south and 7.5 miles north of the 80° bearing from the Port Angeles CGAS Airport to 11 miles east, excluding that portion in Canadian airspace. This area will provide airspace for the Copter 242 approach, as aircraft descend through 1,500 feet. This airspace will support IFR operations at Port Angeles CGAS, Port Angeles, WA.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Designated as Surface Areas.

* * * * *

ANM WA E2 Port Angeles, WA [NEW]

Port Angeles CGAS

(Lat. 48°08′29″ N, long. 123°24′50″ W)

That airspace extending upward from the surface to and including 2500 feet within a 1.5-mile radius of Port Angeles CGAS, Port Angeles, WA.

Paragraph 6004 Class E Airspace Areas Designated as an Extension to a Class D or Class E Surface Area.

* * * * *

ANM WA E4 Port Angeles, WA [NEW]

Port Angeles CGAS, WA

(Lat. 48°08′29″ N, long. 123°24′50″ W)

That airspace extending upward from the surface within 2.1 miles both sides of the Port Angeles CGAS 80° bearing extending from William R Fairchild surface area 4.1-mile radius to 5.6 miles east of the Port Angeles CGAS airport.

Paragraph 6005 Class E Airspace Areas Extending Upward From 700 Feet or More Above the Surface of the Earth.

* * * * *

ANM WA E5 Port Angeles, WA [NEW]

Port Angeles CGAS, WA

(Lat. 48°08′29″ N, long. 123°24′50″ W)

The Class E airspace extending upward from 700 feet above the surface 3 miles south and 7.5 miles north of the Port Angeles CGAS Airport 80° bearing extending from the William R Fairchild 4.1-mile radius to 11 miles east, excluding that portion in Canadian airspace.

Issued in Seattle, Washington, on June 25, 2020.
Shawn M. Kozica,
Group Manager, Operations Support Group, Western Service Center.

[FR Doc. 2020-14056 Filed 6-30-20; 8:45 am]

BILLING CODE 4910-13-P